DEPARTMENT OF HEALTH AND HUMAN SERVICES

Centers for Disease Control and Prevention

[CDC-2016-0067; Docket Number NIOSH 270-A]

Issuance of Final Publication

AGENCY: National Institute for Occupational Safety and Health (NIOSH) of the Centers for Disease Control and Prevention (CDC), Department of Health and Human Services (HHS).

ACTION: Notice of issuance of final publication.

SUMMARY: NIOSH announces the availability of the following publication: “NIOSH Center for Motor Vehicle Safety: Results from 2016 Midcourse Review” [DHHS (NIOSH) Publication Number 2017-139].

DATES: The technical report was published on March 24, 2017.

ADDRESSES: This document may be obtained at the following link: https://www.cdc.gov/niosh/docs/2017-139/.

FOR FURTHER INFORMATION CONTACT: David Fosbroke, NIOSH Division of Safety Research, Room H-1808, 1095 Willowdale Rd., Morgantown, WV 26505. Telephone: (304) 285-6010 (not a toll free number). Email: def2@cdc.gov.

SUPPLEMENTARY INFORMATION: On August 15, 2016, NIOSH published a notice of public web meeting and request for comments on the “NIOSH Center for Motor Vehicle Safety: Midcourse Review of Strategic Plan” in the Federal Register [81 FR 54094]. The purpose of this midcourse review was to seek external input via public comments and invited stakeholder reviews to shape priorities for the NIOSH Center for Motor Vehicle Safety for the next 2 years and proceeding toward developing a new 10-year strategic plan. All comments received were reviewed and considered in finalizing the current document. Comments for Docket 270-A can be found at: https://www.regulations.gov/ Docket No. CDC-2016-0067.

Dated: April 6, 2017.
Frank Hearl,
Chief of Staff, National Institute for Occupational Safety and Health, Centers for Disease Control and Prevention.

[FR Doc. 2017-07275 Filed 4-10-17; 8:45 am]

BILLING CODE 4163-19-P